ARCHITECTURAL AND TRANSPORTATION BARRIERS COMPLIANCE BOARD

36 CFR Parts 1193 and 1194

Telecommunications Act Accessibility Guidelines; Electronic and Information Technology Accessibility Standards

AGENCY: Architectural and Transportation Barriers Compliance Board.

ACTION: Notice of meeting.

SUMMARY: The Architectural and Transportation Barriers Compliance Board (Access Board) has established a Telecommunications and Electronic and Information Technology Advisory Committee (Committee) to assist it in revising and updating accessibility guidelines for telecommunications products and accessibility standards for electronic and information technology. This notice announces the dates, time, and location of the next committee meeting, which will be open to the public.

DATES: The meeting is scheduled for May 22-24, 2007 (beginning at 9 a.m. and ending at 5 p.m. on May 22 and 23; and beginning at 9 a.m. and ending at 3 p.m. on May 24). Notices of future meetings will be published in the Federal Register.

ADDRESSES: The meeting will be held at the National Science Foundation, 4201 Wilson Boulevard, Room II-555, Arlington, VA 22230.

FOR FURTHER INFORMATION CONTACT: Timothy Creagan, Office of Technical and Information Services, Architectural and Transportation Barriers Compliance Board, 1331 F Street, NW., suite 1000, Washington, DC 20004-1111. Telephone number: 202-272-0016 (Voice); 202-272-0082 (TTY). Electronic mail address: creagan@access-board.gov.

SUPPLEMENTARY INFORMATION: The Architectural and Transportation Barriers Compliance Board (Access Board) established the Telecommunications and Electronic and Information Technology Advisory Committee (Committee) to assist it in revising and updating accessibility guidelines for telecommunications products and accessibility standards for electronic and information technology. The next meeting of the Committee will take place on May 22-24, 2007. A summary of the meeting agenda is provided below. The full agenda is available at the Access Board's Web site at: http://www.access-board.gov/sec508/refresh/agenda.htm.

Topics To Be Discussed on Tuesday, May 22

Report and discussion on recommendations contained in the reports of the following subcommittees:

• Software, Web, and Content

• General Interface Requirements and Functional Performance Criteria

• Desktops, Portables, Peripherals, and Other Computer Hardware

• Subpart A

• Documentation and Technical Support

Presentation and directed discussion on proposals of the editorial working group.

Topics To Be Discussed on Wednesday, May 23

Report and discussion on recommendations contained in the reports of the following subcommittees:

• Telecommunications

• Audio/Visual

• Self Contained, Closed Products

After the reports and discussion on recommendations from the subcommittees, the following subcommittees will meet:

• Telecommunications

• Audio/Visual

• Self Contained, Closed Products

• Software, Web, and Content

• General Interface Requirements and Functional Performance Criteria

Topics To Be Discussed on Thursday, May 24

Discussion and resolution of proposals of the editorial working group followed by these subcommittees meetings:

• Subpart A

• Desktops, Portables, Peripherals, and Other Computer Hardware

• Documentation and Technical Support

Information about the Committee, including future meeting dates is available on the Access Board's Web site (http://www.access-board.gov/sec508/update-index.htm) or at a special Web site created for the Committee's work (http://teitac.org). The site includes a calendar for subcommittee meetings, e-mail distribution lists, and a “Wiki” (http://teitac.org/wiki/TEITAC_Wiki) which provides interactive online work space.

Committee meetings are open to the public and interested persons can attend the meetings and communicate their views. Members of the public will have opportunities to address the Committee on issues of interest to them and the Committee during public comment periods scheduled on each day of the meeting. Members of groups or individuals who are not members of the Committee are invited to participate on subcommittees; participation of this kind is very valuable to the advisory committee process.

The meeting site is accessible to individuals with disabilities. Sign language interpreters, an assistive listening system, and real-time captioning will be provided. For the comfort of other participants, persons attending Committee meetings are requested to refrain from using perfume, cologne, and other fragrances. Due to security measures at the National Science Foundation, all attendees must notify the Access Board's receptionist at 202-272-0007 or receptionist@access-board.gov by May 18, 2007 of their intent to attend the meeting. This notification is required for expeditious entry into the facility and will enable the Access Board to provide additional information as needed.

Lisa Fairhall,
Deputy General Counsel.

[FR Doc. E7-8952 Filed 5-9-07; 8:45 am]

BILLING CODE 8150-01-P